DEPARTMENT OF TRANSPORTATION

Office of the Secretary

Application of Aerodynamics Incorporated for Certificate Authority

AGENCY: Department of Transportation.

ACTION: Notice of Order to Show Cause (Order 2015-1-16) Docket DOT-OST-2014-0114.

SUMMARY: The Department of Transportation is directing all interested persons to show cause why it should not deny the application for a certificate of public convenience and necessity to engage in interstate scheduled air transportation of persons, property, and mail to Aerodynamics Incorporated, and revoke its certificates to conduct interstate and foreign charter air transportation of persons, property, and mail.

DATES: Persons wishing to file objections should do so no later than February 5, 2015.

ADDRESSES: Objections and answers to objections should be filed in Docket DOT-OST-2014-0114 and addressed to the Department of Transportation, Docket Operations, 1200 New Jersey Avenue SE., West Building Ground Floor, Room W12-140, Washington, DC and should be served upon the parties listed in Attachment A to the order.

FOR FURTHER INFORMATION CONTACT: Catherine O'Toole, Air Carrier Fitness Division, (X-56, Office W86-469), U.S. Department of Transportation, 1200 New Jersey Avenue SE., Washington, DC 20590, (202) 366-9721.

Dated: January 16, 2015.
Brandon M. Belford,
Deputy Assistant Secretary for Aviation and International Affairs.

[FR Doc. 2015-01656 Filed 1-30-15; 8:45 am]

BILLING CODE P